COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds products and services to the Procurement List that will be furnished by nonprofit agencies employing persons who are blind or have other severe disabilities.

DATES: Effective Date: 10/22/2012.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or email CMTEFedReg@AbilityOne.gov.

SUPPLEMENTARY INFORMATION:

Additions

On 7/9/2012 (77 FR 40344-40345) and 7/20/2012 (77 FR 42701-42702), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 8501-8506) in connection with the products and services proposed for addition to the Procurement List.

End of Certification

Accordingly, the following products and services are added to the Procurement List:

Products

NSN: 8140-00-NSH-0014—Tube, Cardboard, Grenade, 155 mm Projectile

NPA: SVRC Industries, Inc., Saginaw, MI

Contracting Activity: DEPT OF THE ARMY, W4MM USA JOINT MUNITIONS CMD, ROCK ISLAND, IL

Coverage: C-List for 100% of the requirement of the Crane Army Ammunition Activity, as aggregated by the USA Joint Munitions Command, Army Contracting Command—Rock Island, Rock Island, IL.

Privacy Filters With Frames

NSN: 7045-00-NIB-0377—17.0″

NSN: 7045-00-NIB-0378—19.0″

NSN: 7045-00-NIB-0389—22.0″ Widescreen

NSN: 7045-00-NIB-0390—19.0″ Widescreen

NSN: 7045-00-NIB-0391—24.0″ Widescreen

NPA: Wiscraft, Inc., Milwaukee, WI

Contracting Activity: GENERAL SERVICES ADMINISTRATION, NEW YORK, NY

Coverage: A-List for the Total Government Requirement as aggregated by the General Services Administration.

Services

Service Type/Location: Contact Center Services, Defense Manpower Data Center, Defense Human Resource Center, Alexandria, VA (CONUS)

NPA: InspiriTec, Inc., Philadelphia, PA

Contracting Activity: DEFENSE HUMAN RESOURCES ACTIVITY, HQS DEFENSE HUMAN RESOURCES ACTY, ARLINGTON, VA

Service Type/Location: Custodial/Janitorial Services, Vancouver US Armed Forces Reserve Center (AFRC)/WA070, 15005 NE 65th Street, Vancouver, WA

NPA: Portland Habilitation Center, Inc., Portland, OR

Contracting Activity: DEPT OF THE ARMY, W6QM MICC-ARCC NORTH, FORT McCOY, WI

Barry S. Lineback,
Director, Business Operations.

[FR Doc. 2012-23864 Filed 9-27-12; 8:45 am]

BILLING CODE 6353-01-P